DEPARTMENT OF JUSTICE

Notice of Lodging of Consent Decree Under the Comprehensive Environmental Response, Compensation, and Liability Act

Pursuant to Department of Justice policy, notice is hereby given that, on May 18, 2009, a proposed Consent Decree in In re James Pielet, Case No. 06-01026 (Bankr. N.D. Ill.) and In re J.P. Investments, Inc., Case No. 06-01037 (Bankr. N.D. Ill.) was lodged with the United States Bankruptcy Court for the Northern District of Illinois. The Consent Decree provides for recovery of response costs that the U.S. Environmental Protection Agency (“EPA”) has incurred and will incur in addressing environmental contamination at two sites: the Midwest Metallics Site in Summit, Illinois and the H&H Enterprises Site in Gary, Indiana. The United States has asserted a claim against the J.P. Investments bankruptcy estate for $5,087,276 in costs associated with the Midwest Metallics Site and it has asserted a claim against the James Pielet bankruptcy estate for $3,210,411.66 in costs associated with the H&H Enterprises Site.

The proposed Consent Decree would resolve the United States' claims in the two bankruptcy cases in exchange for providing EPA: (i) A $700,000.00 allowed secured claim against the James Pielet bankruptcy estate, to be paid on a priority basis pursuant to 11 U.S.C. 725; (ii) a $2,510,411.66 allowed general unsecured claim against the James Pielet bankruptcy estate; (iii) a $3,391,517.33 allowed general unsecured claim against the J.P. Investments bankruptcy estate; and (iv) a $1,695,758.67 allowed general unsecured subordinated claim against the J.P. Investments bankruptcy estate.

The Department of Justice will receive comments relating to the Consent Decree for a period of thirty (30) days from the date of this publication. Comments should be addressed to the Assistant Attorney General, Environment and Natural Resources Division, and mailed either electronically to pubcomment-ees.enrd@usdoj.gov or in hard copy to U.S. Department of Justice, P.O. Box 7611, Washington, DC 20044-7611. Comments should refer to In re James Pielet and In re J.P. Investments, Inc. and D.J. Ref. Nos. 90-11-2-1092/2 and 90-11-2-1092/3.

The Consent Decree may be examined at the offices of the U.S. Environmental Protection Agency, Region 5, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (17 pages at 25 cents per page reproduction cost) payable to the U.S. Treasury.

Maureen M. Katz,
Assistant Chief, Environmental Enforcement Section, Environment and Natural Resources Division.

[FR Doc. E9-12185 Filed 5-26-09; 8:45 am]

BILLING CODE 4410-15-P